DEPARTMENT OF THE INTERIOR

Bureau of Land Management

[F-14929-A; F-14929-A2; 20X-LLAK-944000-L14100000-HY0000-P]

Alaska Native Claims Selection

AGENCY: Bureau of Land Management, Interior.

ACTION: Notice of decision approving lands for conveyance.

SUMMARY: The Bureau of Land Management (BLM) hereby provides constructive Notice that it will issue an appealable decision approving conveyance of the surface estate in certain lands to Askinuk Corporation (Askinuk), for the Native village of Scammon Bay, pursuant to the Alaska Native Claims Settlement Act of 1971 (ANCSA). As provided by ANCSA, the BLM will convey a portion of the subsurface estate in the same lands to Calista Corporation when the BLM conveys the surface estate to Askinuk.

DATES: Any party claiming a property interest in these lands may appeal the decision in accordance with the requirements of 43 CFR part 4 within the time limits set out in the SUPPLEMENTARY INFORMATION section.

ADDRESSES: You may obtain a copy of the decision from the BLM Alaska State Office, 222 West Seventh Avenue, #13, Anchorage, AK 99513-7504.

FOR FURTHER INFORMATION CONTACT: Eileen Ford, phone: 907-271-5715, or email at eford@blm.gov. The BLM may be contacted via Telecommunications Device for the Deaf (TDD) through the Federal Relay Service at 1-800-877-8339. The relay service is available 24 hours a day, 7 days a week, to leave a message or question with the BLM. The BLM will reply during normal business hours.

SUPPLEMENTARY INFORMATION: As required by 43 CFR 2650.7(d), Notice is hereby given that the BLM will issue an appealable decision to Askinuk. The decision approves conveyance of the surface estate in certain lands pursuant to ANCSA (43 U.S.C. 1601, et seq.). As provided by ANCSA, a portion of the subsurface estate in the same lands will be conveyed to Calista Corporation when the surface estate is conveyed to Askinuk. The lands are located in the vicinity of Scammon Bay, Alaska, and are described as:

Seward Meridian, Alaska

T. 20 N., R. 88 W.,

Secs. 14 and 15.

Containing 768.64 acres.

T. 20 N., R. 90 W.,

Secs. 5 and 6.

Containing 97.06 acres.

T. 22 N., R. 90 W.,

Sec. 27.

Containing 12.89 acres.

T. 20 N., R. 91 W.,

Sec. 1.

Containing 23.91 acres.

Aggregating 902.50 acres.

The decision addresses public access easements, if any, to be reserved to the United States pursuant to Sec. 17(b) of ANCSA (43 U.S.C. 1616(b)), in the lands described above.

The BLM will publish the Notice of the decision once a week for four consecutive weeks in the “The Delta Discovery” newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until March 27, 2020 to file an appeal.

2. Parties receiving service of the decision by certified mail shall have 30 days from the date of receipt to file an appeal.

3. Parties who do not file an appeal in accordance with the requirements of 43 CFR part 4 shall be deemed to have waived their rights. Notices of appeal transmitted by facsimile will not be accepted as timely filed.

Eileen Ford,
Land Transfer Resolution Specialist, Adjudication Section.

[FR Doc. 2020-03845 Filed 2-25-20; 8:45 am]

BILLING CODE 4310-JA-P